Title 3—

The President

Proclamation 7330 of July 14, 2000

Captive Nations Week, 2000

By the President of the United States of America

A Proclamation

When President Eisenhower signed the first Captive Nations Week Proclamation in 1959, the fate of freedom around the world was still far from certain. While the United States and our Allies had defeated Adolf Hitler and the Axis Powers in World War II, a partitioned Berlin stood as a bleak symbol of a divided Europe, and millions throughout Asia, Africa, and South America continued to suffer under communist and authoritarian regimes.

Today, as we embark on a new century, democracy is on the rise across the globe. More than half the world's people live under governments of their own choosing. The Iron Curtain has been lifted, allowing the light of liberty into the nations of Central and Eastern Europe. Democratic rule has swept through the countries of Latin America, replacing abusive military regimes with elected civilian governments. And in Africa and Asia, many nations have finally gained independence.

This rising tide of freedom is no accident of history; it was achieved through the courage, determination, and sacrifice of millions of men and women here in America and in captive nations around the world. Whether speaking out in the halls of the United Nations for those silenced by oppressive regimes, standing guard through frigid nights on the DMZ in Korea, or sharing the fruits of liberty through the Peace Corps, generations of Americans have made sure that our country is an ally and source of hope for all people yearning for freedom and dignity. Around the globe, freedom-loving people have risked and often sacrificed their lives to end oppression, whether uniting against tyranny through the Solidarity movement in Poland or defying intimidation and violence to vote in free elections in El Salvador and Nicaragua.

The tide keeps turning toward democracy, human rights, and free market economies. Yet there remain tyrants who use brutality, ethnic cleansing, guns, and prisons to silence voices of reason and tolerance within their countries. As a Nation born of the ideals of freedom, justice, and human dignity, America has a solemn obligation to continue speaking out on behalf of these still-captive nations and their people and lend them our support. We draw strength for this task from the knowledge that our cause is right and inspiration from the people of former captive nations who are flourishing today.

The Congress, by Joint Resolution approved July 17, 1959 (73 Stat. 212), has authorized and requested the President to issue a proclamation designating the third week in July of each year as “Captive Nations Week.”

NOW, THEREFORE, I, WILLIAM J. CLINTON, President of the United States of America, do hereby proclaim July 16 through July 22, 2000, as Captive Nations Week. I call upon the people of the United States to observe this week with appropriate ceremonies and activities and to rededicate ourselves to the principles of freedom, human rights, and self-determination for all the peoples of the world.

IN WITNESS WHEREOF, I have hereunto set my hand this fourteenth day of July, in the year of our Lord two thousand, and of the Independence of the United States of America the two hundred and twenty-fifth.

wj

[FR Doc. 00-18425

Filed 7-18-00; 8:45 am]

Billing code 3195-01-P